DEPARTMENT OF HOUSING AND URBAN DEVELOPMENT

[Docket No. FR-4962-N-03]

Notice of Funding Availability for Fiscal Year (FY) 2004 HOPE VI Main Street Grants; Notice of Extension of Application Submission Date for Areas Affected by Hurricane Katrina

AGENCY: Office of the Assistant Secretary for Public and Indian Housing, HUD.

ACTION: Notice of extension of application submission date for applicants submitting applications from areas affected by Hurricane Katrina.

SUMMARY: This notice announces that HUD has extended the submission deadline date for the Fiscal Year (FY) 2004 HOPE VI Main Street Grants Notice of Funding Availability (NOFA) for those applicants located in areas designated by the President as disaster areas, and other areas that experienced major power outages due to Hurricane Katrina. These areas include the entire state of Louisiana; the entire state of Mississippi; the Alabama counties of Baldwin, Bibb, Calhoun, Clarke, Choctaw, Green, Hale, Jefferson, Mobile, Shelby, Sumter, Tuscaloosa, and Washington; and the Florida counties of Broward, Miami-Dade, Monroe, and Palm Beach. The application submission deadline for this funding opportunity was September 2, 2005. For those applicants located in one of these states or counties, the revised submission date is September 7, 2005 at 5:15 p.m. For applicants unaffected by Hurricane Katrina, the submission deadline remains unchanged.

FOR FURTHER INFORMATION CONTACT: Lar Gnessin, Office of Public Housing Investments, Office of Public and Indian Housing, Department of Housing and Urban Development, 451 Seventh Street, SW., Washington, DC 20410-5000; telephone (202) 708-0614 extension 2676 (this is not a toll-free number). Hearing- or speech-impaired individuals may access this telephone number via TTY by calling the toll-free Federal Information Relay Service on (800) 877-8339.

SUPPLEMENTARY INFORMATION: On July 21, 2005 (70 FR 42150), HUD published the Notice of Funding Availability (NOFA) for Fiscal Year (FY) 2004 HOPE VI Main Street Grants Notice announcing the availability of approximately $5 million in funds to produce affordable housing in HUD-defined Main Street rejuvenation areas. In a Federal Register notice published on August 1, 2005 (70 FR 44110), HUD announced several corrections to the NOFA, including the requirement that only paper submissions may be accepted.

Due to Hurricane Katrina, which caused widespread damage and power outages in the entire state of Louisiana; the entire state of Mississippi; the Alabama counties of Baldwin, Bibb, Calhoun, Clarke, Choctaw, Green, Hale, Jefferson, Mobile, Shelby, Sumter, Tuscaloosa, and Washington; and the Florida counties of Broward, Miami-Dade, Monroe, and Palm Beach, HUD has extended the application submission deadline for the FY 2005 HOPE VI Main Street Grants NOFA to September 7, 2005. HUD is aware that recovery of many areas will not occur before this date. The period of this extension has been limited because funding for this NOFA expires on September 30, 2005, and must be returned to the U.S. Treasury if not awarded by that date. The below listed areas were designated by the President as federal disaster areas, or experienced major power outages; thus, this extension affects only applicants located in the entire state of Louisiana; the entire state of Mississippi; the Alabama counties of Baldwin, Bibb, Calhoun, Clarke, Choctaw, Green, Hale, Jefferson, Mobile, Shelby, Sumpter, Tuscaloosa, and Washington; and the Florida counties of Broward, Miami-Dade, Monroe, and Palm Beach.

HUD will accept applications to the FY 2004 Main Street VI Main Street Grants NOFA from applicants of the affected states or counties listed above through hard copy (paper) submission consistent with the instructions in the August 1, 2005 correction. In order to ensure timely receipt, HUD strongly recommends applicants use an overnight delivery method to ensure timely receipt of paper applications. Hand deliveries will not be accepted. Hard copy submissions should be sent to the appropriate address listed as follows: FY 2004 Main Street VI Main Street Grants Program: Department of Housing and Urban Development, Attn: Dominique Blom, Acting Deputy Assistant Secretary, 451 Seventh Street, SW., Room 4130, Washington, DC 20410-5000.

Dated: September 2, 2005.
Paula O. Blunt,
General Deputy Assistant Secretary for Public and Indian Housing.

[FR Doc. 05-17950 Filed 9-6-05; 4:19 pm]

BILLING CODE 4210-33-M